DEPARTMENT OF DEFENSE

Office of the Secretary

[Docket ID: DoD-2020-OS-0021]

Privacy Act of 1974; System of Records

AGENCY: Defense Intelligence Agency (DIA), Department of Defense (DoD).

ACTION: Rescindment of a System of Records Notice (SORN).

SUMMARY: The DIA is rescinding a System of Records, DIA Military Recognition and Awards Files, LDIA 0435. The DIA determined this System of Records was duplicative of the Systems of Records held by the military branches which maintain the official records of military personnel. The DIA decommissioned this System of Records on January 9, 2020 to improve record-keeping efficiency, optimize business processes and better protect military members' privacy. All files within this System of Records were destroyed in accordance with the policies and practices for the retention and disposal of the records.

Military service member awards and recognition records are covered by the following SORNs: AF 036 AF PC C (Air Force), A0600-8 AHRC (Army) and N01070-3 (Navy and Marine Corps).

DATES: This System of Records rescindment is effective upon publication. This system was decommissioned on January 9, 2020.

FOR FURTHER INFORMATION CONTACT: To submit general questions about the rescinded system, please contact Ms. Theresa Lowery, Component Privacy Officer, Office of Oversight and Compliance, Defense Intelligence Agency, 7400 Pentagon, Washington, DC 20301-2400, or at (202) 231-5270 or theresa.lowery@dodiis.mil.

SUPPLEMENTARY INFORMATION: This rescindment removes a duplicative system of records. The original personnel records continue to be maintained in accordance with the following SORNs: AF 036 AF PC C (Air Force), A0600-8 AHRC (Army) and N01070-3 (Navy and Marine Corps).

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act of 1974, as amended, were submitted on February 14, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

DIA Military Recognition and Awards Files, LDIA 0435.

HISTORY:

April 12, 2012, 77 FR 21976.

Dated: February 21, 2020.
Aaron T. Siegel,
Alternate OSD Federal Register Liaison Officer, Department of Defense.

[FR Doc. 2020-03911 Filed 2-26-20; 8:45 am]

BILLING CODE 5001-06-P